DEPARTMENT OF LABOR

Employment and Training Administration

[TA-W-55,125]

Volt Temporary Services, Volt Services Group, Leased Workers Onsite at SR Telecom, Inc., Redmond, WA; Notice of Negative Determination on Reconsideration

On August 10, 2004, the Department issued an Affirmative Determination Regarding Application for Reconsideration for the workers and former workers of the subject firm. The Department's notice was published in the Federal Register on August 20, 2004 (69 FR 51718). Separated workers are employees of Volt Temporary Services, Volt Services Group working onsite at SR Telecom, Inc., Redmond, Washington.

The Department denied the initial petition because Volt Temporary Services, Volt Services Group is not a company that produces an article but is a staffing agency that satisfies companies' human resource needs by sending temporary workers to fulfill a variety of needs. The initial petition was also denied because Volt Temporary Services, Volt Services Group was not under a written contractual relationship with SR Telecom, Inc., Redmond, Washington.

In the request for reconsideration, the petitioners allege that the Volt Temporary Services, Volt Services Group workers who were assigned to SR Telecom, Inc., Redmond, Washington performed assembly work and did not perform administrative functions.

The reconsideration investigation revealed that while Volt Temporary Services, Volt Services Group does not produce an article, it does place workers in companies that are engaged in production. During the reconsideration investigation, it was confirmed that a written contract did not exist between Volt Temporary Services, Volt Services Group and SR Telecom, Inc., Redmond, Washington.

A subject company official informed the Department that almost seven hundred Volt Temporary Services, Volt Services Group workers were placed in assignments in 2003 and over five hundred Volt Temporary Services, Volt Services Group workers were placed in assignments in 2004. Fifteen Volt Temporary Services, Volt Services Group workers were placed with SR Telecom, Inc., Redmond, Washington in 2003 and two Volt Temporary Services, Volt Services Group workers were placed with SR Telecom, Inc., Redmond, Washington in 2004 (one performed administrative duties, the other performed warehousing, packing and shipping/receiving duties).

At the time that SR Telecom, Inc., Redmond, Washington closed in July 2004, only one Volt Temporary Services, Volt Services Group worker was still assigned there. That employee was placed in SR Telecom, Inc., Redmond, Washington in 2003 and is currently a permanent employee of Volt Temporary Services, Volt Services Group.

The two Volt Temporary Services, Volt Services Group workers who were assigned to SR Telecom, Inc., Redmond, Washington in 2004 ceased working there on July 12, 2004, because their assignments naturally expired at that time. As such, there were no worker lay-offs during the relevant time period.

Conclusion

After reconsideration, I affirm the original notice of negative determination of eligibility to apply for worker adjustment assistance for workers and former workers of Volt Temporary Services, Volt Services Group, leased workers on-site at SR Telecom, Inc., Redmond, Washington.

Signed in Washington, DC, this 14th day of September, 2004.
Linda G. Poole,
Certifying Officer, Division of Trade Adjustment Assistance.

[FR Doc. E4-2331 Filed 9-22-04; 8:45 am]

BILLING CODE 4510-30-P